ENVIRONMENTAL PROTECTION AGENCY

40 CFR Part 52

[MD-3072; FRL-7012-5]

Approval and Promulgation of Air Quality Implementation Plans; Maryland; One-Hour Ozone Attainment Demonstration Plans for the Baltimore and Philadelphia-Wilmington-Trenton Ozone Nonattainment Areas

AGENCY: Environmental Protection Agency (EPA).

ACTION: Supplemental notice of proposed rule.

SUMMARY: On December 16, 1999, EPA proposed approval of the attainment demonstration plans for the Baltimore and Philadelphia-Wilmington-Trenton severe ozone nonattainment areas. Among other things, EPA proposed approval of these SIPs only if Maryland submitted: adequate motor vehicle emissions budgets reflecting the benefits from the Federal Tier 2/Sulfur-in-Fuel rule; and enforceable commitments to: submit measures by October 31, 2001 for additional emission reductions as required in the attainment demonstration test, revise the SIP and motor vehicle emissions budgets by October 31, 2001 if additional measures affect the motor vehicle emissions inventory, submit revised SIP and motor vehicle emissions budgets within one year after MOBILE6 issued, and perform a mid-course review. In this rulemaking, EPA is proposing to approve State Implementation Plan (SIP) revisions submitted by the State of Maryland. These revisions establish the requisite enforceable commitments relating to the attainment demonstration and the motor vehicle emissions budgets incorporating the benefits of the Tier 2/Sulfur-in-Fuel rule. The intended effect of this action is to supplement our December 16, 1999 proposed approvals by opening a comment period on these enforceable commitments and motor vehicle emissions budgets. This action is being taken in accordance with the Clean Air Act.

DATES: Written comments must be received on or before August 13, 2001.

ADDRESSES: Written comments may be mailed to David L. Arnold, Chief, Air Quality Planning and Information Services, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Maryland Department of the Environment, 2500 Broening Highway, Baltimore, Maryland, 21224.

FOR FURTHER INFORMATION CONTACT: Christopher Cripps, (215) 814-2179. Or by e-mail at cripps.christopher@epa.gov.

SUPPLEMENTARY INFORMATION: Throughout this document wherever “we”, “us”, or “our” are used we mean EPA.

I. Background

A. What Previous Proposed Actions Have Been Taken on the Attainment Demonstration SIP Revisions?

On December 16, 1999, we proposed approval of the attainment demonstration for the following attainment demonstration SIP revisions submitted by the State of Maryland for the following areas: the Baltimore severe ozone nonattainment area (64 FR 70397) and the Philadelphia-Wilmington-Trenton severe ozone nonattainment area (64 FR 70412). Our approval was contingent upon certain actions by Maryland for each of the two areas. These actions were:

1. Maryland had to adopt and submit an adequate motor vehicle emissions budget including the benefits of the Federal Tier 2/Sulfur-in-Fuel rule.

2. Maryland had to adopt and submit an enforceable commitment to do the following:

(a) Submit measures by 10/31/01 for additional emission reductions as required in the attainment demonstration test as discussed in section I.C.5. of that proposed approval. For additional emission reduction measures developed through the regional process, the State must also submit an enforceable commitment for the additional measures and a backstop commitment to adopt and submit intrastate measures for the emission reductions in the event the OTR process does not recommend measures that produce emission reductions.

(b) Submit a revised SIP & motor vehicle emissions budget by 10/31/01 if additional measures affect the motor vehicle emissions inventory.

(c) Submit revised SIP and motor vehicle emissions budget one year after MOBILE6 issued (required because the attainment SIPs include the benefits of EPA's Tier 2/Sulfur-in-Fuel rule), and

(d) Perform a mid-course review.

On July 28, 2000, EPA published a supplemental notice of proposed rulemaking (SNPR) on the attainment demonstration (65 FR 46383). In that supplemental notice, we clarified and expanded on two issues relating to the motor vehicle emissions budgets in these SIPs. In the July 28, 2000 SNPR, we reopened the comment period to take comment on these two issues and to allow comment on any additional materials that were placed in the dockets for the proposed actions close to or after the initial comment period closed on February 14, 2000. For many of the areas covered by the July 28, 2000 SNPR, additional information had been placed in the docket close to or since the initial comment period concluded. In general, these materials were identified as consisting of motor vehicle emissions budgets, and revised or additional commitments or reaffirmations submitted by the States (65 FR at 46387, July 28, 2000). The comment period established by the July 28, 2000 SNPR concluded on August 28, 2000.

As we proposed in the July 28, 2000 SNPR, the attainment budgets that we are proposing to approve today would be effective for conformity purposes only until revised attainment motor vehicle emissions budgets are submitted and we have found them adequate. The revised MOBILE6 attainment budgets will apply for conformity purposes as soon as we find them adequate. We are limiting the duration of our approval in this manner because we are only approving the attainment demonstrations and their budgets because the States have committed to revise them with MOBILE6.

B. Has Maryland Submitted Any Other Revisions to or Other Material Relevant to the Attainment Demonstration Close to or After August 28, 2000?

On December 28, 2000, the State of Maryland submitted a SIP revision (SIP Revision 00-15) with revised attainment motor vehicle emissions budgets for the Baltimore severe ozone nonattainment area. These motor vehicle emissions budgets incorporate the benefits of the Federal Tier 2/Sulfur-in-Fuel rule as required by EPA's proposed action on the attainment demonstration for the Baltimore area (64 FR 70397, December 16, 1999). In this December 28, 2000 submittal, Maryland also included the enforceable commitments as required by EPA's December 16, 1999 proposed action.

On December 28, 2000, the State of Maryland also submitted a SIP revision (SIP Revision 00-14) with revised attainment motor vehicle emissions budgets for the Maryland portion of the Philadelphia-Wilmington-Trenton severe ozone nonattainment area (Cecil County). These motor vehicle emissions budgets incorporate the benefits of the Federal Tier 2/Sulfur-in-Fuel rule as required by EPA's proposed action on Maryland's attainment demonstration for the Philadelphia-Wilmington-Trenton area (64 FR 70412, December 16, 1999). In this December 28, 2000 submittal, Maryland also included the enforceable commitments as required by EPA's December 16, 1999 proposed action.

C. Did the December 28, 2000 Submittals Contain Any Other Amendments?

Each of the December 28, 2000 submittals contains revisions to the post-1996 rate-of-progress plans and incorporates a number of changes in 2005 year projected emissions. We are proposing to approve the changes in 2005 projections as they relate to the attainment demonstration as part of this rulemaking action. The first of these changes was a change in the method of incorporating the effects of certain programs affecting on-road mobile sources when projecting 2005 “uncontrolled” emissions and when determining 2005 emission reductions. The second was updating future projected 2005 controlled emissions in the point, area and nonroad mobile portions of the 2005 inventories, i.e., 2005 emissions reflecting all the control strategies, to account for more recent information. This proposed rulemaking does not include any action on Maryland's rate-of-progress plans for each area. The revisions to the rate-of-progress plans and the changes in 2005 projections as these revisions relate to Maryland's rate-of-progress plans for each of the two areas are the subject of separate rulemaking actions.

D. Has EPA Determined That the Motor Vehicle Emissions Budgets Incorporating the Tier 2/Sulfur-in-Fuel Rule Benefits Are Adequate?

On April 12, 2001, EPA sent a letter to the MDE which constituted final Agency actions finding the motor vehicle emissions budgets in the December 28, 2000 SIP revision for the Maryland portion of the Philadelphia-Wilmington-Trenton area (Cecil County) adequate for transportation conformity purposes (also see 66 FR 18928).

On June 19, 2001, EPA sent a letter to the MDE which constitutes final Agency actions finding the motor vehicle emissions budgets in the December 28, 2000 submittal for the Baltimore area adequate for transportation conformity purposes. A notice announcing the adequacy status of these budgets was published in the Federal Register on July 5, 2001.

E. What Are the Motor Vehicle Emissions Budgets Contained Within the December 28, 2001 Revisions?

The December 28, 2000 revisions set the motor vehicle emissions budgets for the 2005 attainment year as follows: The motor vehicle emissions budgets for the Baltimore area are 45.5 tons per day volatile organic compounds and 96.9 tons per day nitrogen oxides. The motor vehicle emissions budgets for the Maryland portion of the Philadelphia-Wilmington-Trenton area are 2.6 tons per day volatile organic compounds and 5.6 tons per day nitrogen oxides.

II. Reopening of the Public Comment Period

We are reopening the comment period for the Maryland attainment demonstration SIP revisions for the Baltimore and Philadelphia-Wilmington-Trenton areas to address the additional information that has been placed in the docket close to or since the last comment period established by the July 28, 2000 SNPR that concluded on August 28, 2000. These materials consist of revised motor vehicle emissions budgets, and the enforceable commitments required under the two December 16, 1999 notices of proposed rulemaking discussed above.

EPA proposing to approve the motor vehicle emissions budgets, enforceable commitments and changes in 2005 year projected emissions in the Maryland SIP revisions for the Baltimore and Philadelphia-Wilmington-Trenton areas, which were submitted on December 28, 2000. EPA is soliciting public comments on the issues discussed in this document. These comments will be considered before taking final action. Interested parties may participate in the Federal rulemaking procedure by submitting written comments to the EPA Regional office listed in the ADDRESSES section of this document.

III. Proposed Action

EPA is proposing to approve the motor vehicle emissions budgets and enforceable commitments submitted by MDE on December 28, 2000 as part of the attainment demonstration SIPs for the Baltimore and Philadelphia-Wilmington-Trenton areas. EPA is also proposing to approve changes to the 2005 year projected emissions which were submitted on December 28, 2000 as part of the attainment demonstration SIPs.

IV. Administrative Requirements

Under Executive Order 12866 (58 FR 51735, October 4, 1993), this proposed action is not a “significant regulatory action” and therefore is not subject to review by the Office of Management and Budget. This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order.

This supplemental proposed rule on Maryland's attainment demonstrations to include motor vehicle emission budgets which reflect the benefits of the Federal Tier 2/Sulfur-in-Fuel rule and enforceable commitments as required by EPA's December 16, 1999 proposed rulemaking does not impose an information collection burden under the provisions of the Paperwork Reduction Act of 1995 (44 U.S.C. 3501 et seq.).

List of Subjects in 40 CFR Part 52

Environmental protection, Air pollution control, Hydrocarbons, Intergovernmental relations, Nitrogen dioxide, Ozone.

Authority: 42 U.S.C. 7401 et seq.

Dated: July 5, 2001.
Thomas C. Voltaggio,
Acting Regional Administrator, Region III.

[FR Doc. 01-17704 Filed 7-13-01; 8:45 am]

BILLING CODE 6560-50-P